DEPARTMENT OF HOMELAND SECURITY

Transportation Security Administration

Intent To Request Renewal From OMB of One Current Public Collection of Information: Corporate Security Review

AGENCY: Transportation Security Administration (TSA), DHS.

ACTION: 60-day notice.

SUMMARY: TSA invites public comment on one currently approved information collection requirement abstracted below that we will submit to the Office of Management and Budget (OMB) for renewal in compliance with the Paperwork Reduction Act.

DATES: Send your comments by May 4, 2009.

ADDRESSES: Comments may be mailed or delivered to Ginger LeMay, PRA Officer, Office of Information Technology, Transportation Security Administration, 601 South 12th Street, Arlington, VA 20598-6011.

FOR FURTHER INFORMATION CONTACT: Ginger LeMay, PRA Officer, Office of Information Technology, TSA-11, Transportation Security Administration, 601 South 12th Street, Arlington, VA 20598-6011; telephone (571) 227-3616; e-mail: ginger.lemay@dhs.gov.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Corporate Security Review (CSR).

Type of Request: Renewal of one current public collection.

OMB Control Number: 1652-0036.

Form(s): Corporate Security Review Form.

Affected Public: Surface transportation system owners and operators.

Abstract: The Aviation and Transportation Security Act of 2001 (ATSA) (Pub. L. 107-71) requires TSA to oversee the security of the nation's surface transportation system. Specifically, ATSA grants TSA authority to execute its responsibilities for:

• Enhancing security in all modes of transportation;

• Assessing intelligence and other information in order to identify threats to transportation security; and

• Coordinating countermeasures with other Federal agencies to address such threats, including the authority to receive, assess, and distribute intelligence information related to transportation security (49 U.S.C. 114(d), (f)(1)-(5), (h)(1)-(4)).

To support these requirements, TSA assesses the current security practices in the surface transportation sector by way of site visits and interviews through its Corporate Security Review (CSR) program, one piece of a much larger domain awareness, prevention, and protection program in support of TSA's and Department of Homeland Security's missions. TSA is seeking to renew its OMB approval for this information collection so that TSA can continue to ascertain information security measures and identify gaps. These activities are critical to its mission of ensuring transportation security.

The CSR is an “instructive” review that provides TSA with an understanding of surface transportation owner/operators' security programs, if they have them. In carrying out CSRs, modal experts from TSA conduct site visits of highway and pipeline assets throughout the nation. The TSA team analyzes the owner's/operator's security plan, if the owner/operator has one, and determines if the mitigation measures included in the plan are being implemented. In addition to reviewing the security plan document, TSA inspects one or two assets owned by the operator.

At the conclusion of these site visits, TSA completes the Corporate Security Review form, which asks questions concerning eleven topics: Threat assessments, vulnerability assessments, security planning, credentialing, secure areas, infrastructure protection, physical security countermeasures, cyber security, training, communications, and exercises. TSA conducts this collection through voluntary face-to-face visits at the company/agency headquarters of surface transportation owners/operators. Typically, TSA sends one to three employees to conduct a 4-8 hour discussion/interview with representatives from the company/agency owner/operator. TSA plans to collect information from businesses of all sizes.

The annual hour burden for this information collection is estimated to be 612 hours. While TSA estimates a total of 590 potential respondents, this estimate is based on TSA conducting 184 visits per year, each visit lasting 1 day (3-8 hour work day). The total annual cost burden to respondents is $30,000.

Number of Respondents: 590.

Estimated Annual Burden Hours: An estimated 612 hours annually.

Issued in Arlington, Virginia, on February 27, 2009.
Ginger LeMay,
Paperwork Reduction Act Officer, Office of Information Technology.

[FR Doc. E9-4652 Filed 3-4-09; 8:45 am]

BILLING CODE 4910-62-P